DEPARTMENT OF DEFENSE

Office of the Secretary

[Docket ID DOD-2011-OS-0125]

Proposed Collection; Comment Request

AGENCY: Defense Security Service, DoD.

ACTION: Notice.

SUMMARY: In compliance with Section 3506 (c) (2) (A) of the Paperwork Reduction Act of 1995, the Defense Security Service (DSS) announces the proposed extension of a public information collection and seeks public comments on the provision thereof. Comments are invited on: (a) Whether the proposed collection is necessary for the proper performance of the functions of the agency, including whether the information shall have practical utility; (b) the accuracy of the agency's estimate of the burden of the information to be collected; and (c) ways to enhance the quality, utility and clarity of the information to be collected; and (d) ways to minimize the burden of the information collection on respondents, including through the use of automated collection techniques or other forms of information technology.

DATES: Consideration will be given to all comments received by January 17, 2012.

ADDRESS: You may submit comments, identified by docket number and title, by any of the following methods:

• Federal Rule Making Portal: http://www.regulations.gov. Follow the instructions for submitting comments.

• Mail: Federal Docket Management System Office, 4800 Mark Center Drive, 2nd Floor, East Tower, Suite 02G09, Alexandria, VA 22350-3100.

Instructions: All submissions received must include agency name, docket number and title for this Federal Register document. The general policy of comments and other submissions from members of the public is to make these submissions available for public viewing on the Internet at http://www.regulations.gov as they are received without change, including any personal identifiers or contract information.

FOR FURTHER INFORMATION CONTACT: To request more information on this proposed data collection or obtain a copy of the proposal and associated collection instrument, please write to Defense Security Service, OCIO, Attn: Mr. Prakash Kollaram, Russell-Knox Building, 27130 Telegraph Road, Quantico, VA 22134-2253, or call Defense Security Service at (571) 305-6445.

Title, Associated Form, and OMB Number: “Department of Defense Security Agreement,” “Appendage to Department of Defense Security Agreement,” “Certificate Pertaining to Foreign Interests;” DD Forms, 441, 441-1 and SF 328; OMB No. 0704-0194.

Needs and Uses: Executive Order (EO) 12829, “National Industrial Security Program (NISP),” stipulates that the Secretary of Defense shall serve as the Executive Agent for inspecting and monitoring the contractors, licensees, and grantees who require or will require access to or, who store or will store classified information; and for determining the eligibility for access to classified information of contractors, licensees, and grantees and their respective employees. The specific requirements necessary to protect classified information released to private industry are set forth in DoD 5220.22-M, “National Industrial Security Program Operating Manual (NISPOM),” dated February 28, 2006. Respondents must execute DD Form 441, “Department of Defense Security Agreement,” which is the initial agreement between the contractor and the government regarding security requirements necessary to protect classified information associated with the contract. This legally binding document details the responsibility of both parties and obligates the contractor to fulfill the requirements outlined in DoD 5220.22-M. The DD Form 441-1, “Appendage to Department of Defense Security Agreement,” is used to extend the agreement to branch offices of the contractor. The SF Form 328, “Certificate Pertaining to Foreign Interests,” must be submitted to provide certification regarding elements of Foreign Ownership, Control or Influence (FOCI) as stipulated in paragraph 2-302 of the NISPOM.

DSS proposes to make changes to the DD Form 441 and SF 328. The requirement for execution of the corporate “Certificate” section and the use of a corporate seal is being deleted. Currently the government does not require all corporations to execute the corporate Certificate portion of the Forms. Only those corporations who are in possession of a seal were being required to execute the Certificate. Corporations that do not have a seal and other types of businesses structures such as limited liability companies, partnership and sole proprietors are only required to have the signing of the agreement witnessed. DSS proposes that a witness is sufficient for all companies whether or not they are a corporation.

Affected Public: Business, or other profit and non-profit organizations under Department of Defense Security Cognizance.

Total Annual Burden Hours: 12,246.

Number of Respondents: 4,128.

Responses per Respondent: 2.

Average Burden Hours per Respondent: 1.5.

Frequency: One time and/or on occasion (e.g. initial facility clearance processing, when the respondent changes: Name, organizational structure, or address; or there is a material change pertaining to its Foreign Ownership, Control or Influence, etc.).

SUPPLEMENTARY INFORMATION:

Summary of Information Collection

The execution of the DD Form 441, 441-1 and SF 328 is a factor in making a determination as to whether a contractor is eligible to have a facility security clearance. It is also a legal basis for imposing NISP security requirements on eligible contractors. These requirements are necessary in order to preserve and maintain the security of the United States through establishing standards to prevent the improper disclosure of classified information.

Dated: November 10, 2011.
Aaron Siegel,
Alternate OSD Federal Register Liaison Officer, Department of Defense.

[FR Doc. 2011-29531 Filed 11-15-11; 8:45 am]

BILLING CODE 5001-06-P